DEPARTMENT OF THE INTERIOR

National Park Service

[NPS-WASO-NAGPRA-NPS0035106; PPWOCRADN0-PCU00RP14.R50000]

Notice of Intent To Repatriate Cultural Items: Bryn Mawr College, Bryn Mawr, PA

AGENCY: National Park Service, Interior.

ACTION: Notice.

SUMMARY: In accordance with the Native American Graves Protection and Repatriation Act (NAGPRA), Bryn Mawr College intends to repatriate certain cultural items that meet the definition of unassociated funerary objects and that have a cultural affiliation with the Indian Tribes or Native Hawaiian organizations in this notice. The cultural items were removed from Jackson County, AL; Montgomery County, AL; Adams County, MS; Greene County, TN; Knox County, TN; and Roane County, TN.

DATES: Repatriation of the cultural items in this notice may occur on or after February 13, 2023.

ADDRESSES: Marianne Weldon, Bryn Mawr College, 101 N Merion Avenue, Bryn Mawr, PA 19010, telephone (610) 526-5022, email mweldon@brynmawr.edu.

SUPPLEMENTARY INFORMATION: This notice is published as part of the National Park Service's administrative responsibilities under NAGPRA. The determinations in this notice are the sole responsibility of Bryn Mawr College. The National Park Service is not responsible for the determinations in this notice. Additional information on the determinations in this notice, including the results of consultation, can be found in the summary or related records held by Bryn Mawr College.

Description

William Sansom Vaux bequeathed a collection to the Academy of Natural Sciences (ANS) upon his death in 1882. ANS accessioned them on June 27, 1912. In 1961, ANS loaned approximately 3,000 items, including the 29 unassociated funerary objects described below, to Bryn Mawr College. In 1997, the ANS board voted to transfer control to Bryn Mawr College and executed the paperwork in 1998.

One cultural item was removed from a shell mound in Jackson County, AL. The unassociated funerary object is one discoidal or chunkey stone (70.30.2).

One cultural item was removed from Meigs, Montgomery County, AL. The unassociated funerary object is one spearhead (70.30.1).

Fourteen cultural items were removed from Natchez, Adams County, MI. The 14 unassociated funerary objects are one bannerstone (70.31.46), five bowls (73.3.3, 73.3.6, 73.3.7, 73.3.8, 73.3.9), four celts (70.31.25, 70.31.30, 70.31.31, 70.31.32), and four vessels (73.3.1, 73.3.2, 73.3.4, 73.3.5).

Five cultural items were removed from Lick Creek Mound, Greene County, TN. The five unassociated funerary objects are one lot of beads (70.24.132, 70.24.133), two gorgets (70.24.130, 70.24.131), and two pipes (70.24.123, 70.24.124).

One cultural item was removed from a mound site in Greene County, TN. The unassociated funerary object is one necklace (70.24.140).

Three cultural items were removed from Knoxville Mound, Knox County, TN. The unassociated funerary objects are one lot of beads (70.24.134, 70.24.135, 70.24.136, 70.24.137, 70.24.138, 70.24.139) and two pins (70.24.142, 0.24.143).

One cultural item was removed from a mound site in Knoxville, Knox County, TN. The unassociated funerary object is one gorget (70.24.129).

Two cultural items were removed from Knoxville, Knox County, TN. The unassociated funerary objects are one pin (70.24.144) and one gorget (70.24.145).

One cultural item was removed from the Clark River, Roane County, TN. The unassociated funerary object is one pin (70.24.141).

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: geographical and expert opinion.

Determinations

Pursuant to NAGPRA and its implementing regulations, and after consultation with the appropriate Indian Tribes and Native Hawaiian organizations, Bryn Mawr College has determined that:

• The 29 cultural items described above are reasonably believed to have been placed with or near individual human remains at the time of death or later as part of the death rite or ceremony and are believed, by a preponderance of the evidence, to have been removed from a specific burial site of a Native American individual.

• There is a relationship of shared group identity that can be reasonably traced between the cultural items and The Muscogee (Creek) Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 13, 2023. If competing requests for repatriation are received, Bryn Mawr College must determine the most appropriate requestor prior to repatriation. Requests for joint repatriation of the cultural items are considered a single request and not competing requests. Bryn Mawr is responsible for sending a copy of this notice to the Indian Tribe identified in this notice.

Authority: Native American Graves Protection and Repatriation Act, 25 U.S.C. 3003, and the implementing regulations, 43 CFR 10.8, 10.10, and 10.14.

Dated: January 4, 2023.
Melanie O'Brien,
Manager, National NAGPRA Program.

[FR Doc. 2023-00476 Filed 1-11-23; 8:45 am]

BILLING CODE 4312-52-P